DEPARTMENT OF THE INTERIOR

Minerals Management Service

Availability of United States Virgin Islands Territorial Submerged Lands Act Boundary Determination and Submerged Lands Jurisdictions

AGENCY: Minerals Management Service, Interior.

ACTION: Availability of United States Virgin Islands Territorial Submerged Lands Act Boundary Determinations and Submerged Lands Jurisdictions.

SUMMARY: Notice is hereby given that the Minerals Management Service's Mapping and Boundary Branch has prepared for review and comment by interested parties on the Territorial Submerged Lands Act Boundary Determinations and Submerged Lands Jurisdictions for the United States Virgin Islands, including St. Thomas, St. John, and St. Croix. The Mapping and Boundary Branch has conducted pursuant to 48 U.S.C. 1705(b), coastline ownership record searches, field investigations, baseline point development, and review and mathematical computations to derive and define these boundaries and jurisdictions. The Terrirotial Submerged Lands Act Boundary and Submerged Lands Jurisdictions referenced in this notice were derived in part by using copies of the most current National Ocean Service nautical charts. The Territorial Submerged Lands Act Boundary was developed as an ambulatory boundary. This means that the boundary will continue to move with the erosions and accretions of the coastline. Outer Continental Shelf Official Protraction Diagrams and Supplemental Official Outer Continental Shelf Block Diagrams approved on the date indicated below are on file and available to the public for review, comment, and information in the Minerals Management Service, Mapping and Boundary Branch, Lakewood, Colorado. In accordance with Title 43, U.S.C. Sections 1457 and 1458 and Title 48, U.S.C. Section 1705, these diagrams listed below are the basic record for the legal description of the Territorial Submerged Lands and Federal and Territorial Submerged Lands jurisdictions in the United States Virgin Islands.

Description | Date
NE20-04, St. Thomas | June 4, 2000.
(With supporting Supplemental Official OCS Block Diagrams)
NE20-07, St. Croix | June 4, 2000.
(With supporting Supplemental Official OCS Block Diagrams)

Copies of this information may be obtained by logging on to the Minerals Management Service's website at ftp://mmspub.mms.gov/pub/mapping/vi/

FOR FURTHER INFORMATION CONTACT: Mr. Leland F. Thormahlen, Chief, Mapping and Boundary Branch, P.O. Box 25165 MS 4011, Denver Federal Center, Lakewood, Colorado 80225, Telephone (303) 275-7120 or E-Mail leland.thormahlen@mms.gov.

Dated: November 8, 2000.
Carolita U. Kallaur,
Associate Director for Offshore Minerals Management.

[FR Doc. 00-29082 Filed 11-13-00; 8:45 am]

BILLING CODE 4310-MR-M